DEPARTMENT OF TRANSPORTATION

Federal Aviation Administration

14 CFR Part 39

[Docket No. 99-NM-329-AD; Amendment 39-11915; AD 2000-20-04]

RIN 2120-AA64

Airworthiness Directives; McDonnell Douglas Model MD-90-30 Series Airplanes

AGENCY: Federal Aviation Administration, DOT.

ACTION: Final rule; correction.

SUMMARY: This document corrects a typographical error that appeared in airworthiness directive (AD) 2000-20-04 that was published in the Federal Register on October 6, 2000 (65 FR 59707). The typographical error resulted in the omission of the amendment number. This AD is applicable to certain McDonnell Douglas Model MD-90-30 series airplanes. This AD requires replacement of certain ground block screws with new screws; and retermination of the circuit ground wires of the electrical power control unit (EPCU) to separate grounding points.

EFFECTIVE DATE: Effective November 13, 2000.

FOR FURTHER INFORMATION CONTACT: George Mabuni, Aerospace Engineer, Systems and Equipment Branch, ANM-130L, FAA, Los Angeles Aircraft Certification Office, 3960 Paramount Boulevard, Lakewood, California 90712-4137; telephone (562) 627-5341; fax (562) 627-5210.

SUPPLEMENTARY INFORMATION: Airworthiness Directive (AD) 2000-20-04, amendment 39-11915, applicable to certain McDonnell Douglas Model MD-90-30 series airplanes, was published in the Federal Register on October 6, 2000 (65 FR 59707). That AD requires replacement of certain ground block screws with new screws; and retermination of the circuit ground wires of the electrical power control unit (EPCU) to separate grounding points.

PART 39—[CORRECTED]

As published, the amendment contained a typographical error in paragraph 2. under the “PART 39—AIRWORTHINESS DIRECTIVES” heading resulting in the omission of the new amendment number. In all other respects, the original document is correct.

Since no other part of the regulatory information has been changed, the final rule is not being republished.

The effective date of this AD remains November 13, 2000.

§ 39.13 [Corrected]

On page 59708, in the first column, correct instruction 2 to read as follows:

2. Section 39.13 is amended by removing amendment 39-11855 (65 FR 49728, August 15, 2000), and by adding a new airworthiness directive (AD), amendment 39-11915, to read as follows:

Issued in Renton, Washington, on December 29, 2000.
Dorenda D. Baker,
Acting Manager, Transport Airplane Directorate, Aircraft Certification Service.

[FR Doc. 01-340 Filed 1-8-01; 8:45 am]

BILLING CODE 4910-13-U